DEPARTMENT OF TRANSPORTATION

National Highway Traffic Safety Administration

[Docket No. NHTSA-2025-0428; Notice 1]

Goodyear Tire & Rubber Company, Receipt of Petition for Decision of Inconsequential Noncompliance

AGENCY: National Highway Traffic Safety Administration (NHTSA), Department of Transportation (DOT).

ACTION: Receipt of petition.

SUMMARY: Goodyear Tire & Rubber Company (Goodyear) has determined that certain Dean Back Country A/T2 light truck tires do not fully comply with Federal Motor Vehicle Safety Standard (FMVSS) No. 119, New Pneumatic Tires for Motor Vehicles with a GVWR of More Than 4,536 Kilograms (10,000 Pounds), Specialty Tires, and Tires for Motorcycles. Goodyear filed a noncompliance report dated May 12, 2025, and subsequently petitioned NHTSA (the “Agency”) on May 13, 2025, for a decision that the subject noncompliance is inconsequential as it relates to motor vehicle safety. This document announces receipt of Goodyear's petition.

DATES: Send comments on or before March 26, 2026.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0547.

SUPPLEMENTARY INFORMATION:

I. Overview: Goodyear determined that certain Dean Back Country A/T2 light truck tires do not fully comply with paragraph S6.5(f) of FMVSS No. 119, New Pneumatic Tires for Motor Vehicles with a GVWR of More Than 4,536 Kilograms (10,000 Pounds), Specialty Tires, and Tires for Motorcycles. (49 CFR 571.119).

Goodyear filed a noncompliance report dated May 12, 2025, pursuant to 49 CFR part 573, Defect and Noncompliance Responsibility and Reports. Goodyear petitioned NHTSA on May 13, 2025, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Goodyear's petition is published under 49 U.S.C. 30118 and 30120 and does not represent any agency decision or another exercise of judgment concerning the merits of the petition.

II. Tires Involved: Approximately 8,639 Dean Back Country A/T2 size 35x12.50R18LT light truck tires, manufactured between August 21, 2022, and August 31, 2024, were reported by the manufacturer.

III. Rule Requirements: Paragraph S6.5(f) of FMVSS No. 119 includes the requirements relevant to this petition. Paragraph S6.5(f) requires each tire to be marked on each sidewall with the actual number of plies and the composition of the ply cord material in the sidewall and, if different, in the tread area.

IV. Noncompliance: Goodyear explains that the noncompliant tires were manufactured with 2-nylon plies in the tread area, but were cured in a mold that labeled them as only having 1-nylon ply.

V. Summary of Goodyear's Petition: The following views and arguments presented in this section, “V. Summary of Goodyear's Petition,” are the views and arguments provided by Goodyear. They have not been evaluated by the Agency and do not reflect the views of the Agency. Goodyear describes the subject noncompliance and contends that the noncompliance is inconsequential as it relates to motor vehicle safety.

Goodyear states that, although the noncompliant tires were labeled as having 1 ply despite actually having 2 plies of nylon in the tread area, all other sidewall markings required by FMVSS No. 119 relating to tire service are correct and that the tires meet or exceed all applicable safety standards relating to performance. Goodyear further states that all tires of this type will be correctly labeled as having 2-nylon plies. Goodyear believes that the mislabeling of the subject tires does not pose a risk to safety, nor does it impact the use, repair, or recycling of the tires and is therefore inconsequential to motor vehicle safety.

Goodyear lists seven petitions for inconsequential noncompliance that were granted by NHTSA that it believes are similar to this petition:

• Specialty Tires of America, Inc., 87 FR 61431 (Oct. 11, 2022)

• Michelin North America, Inc., 87 FR 6942 (Feb. 7, 2022)

• Sumitomo Rubber Industries, Ltd., 83 FR 13002 (March 26, 2018)

• Continental Tire the Americas, LLC, 83 FR 36668 (July 30, 2018)

• Cooper Tire & Rubber Company, 82 FR 17075 (April 7, 2017)

• Hankook Tire America Corp.,79 FR 30688 (May 28, 2014)

• Bridgestone Americas Tire Operations, LLC, 78 FR 47049 (Aug. 2, 2013).

Goodyear concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Goodyear no longer controlled at the time it determined that the noncompliance existed. However, any decision on this petition does not relieve tire distributors and dealers of the prohibitions on the sale, offer for sale, or introduction or delivery for introduction into interstate commerce of the noncompliant tires under their control after Goodyear notified them that the subject noncompliance existed.

(Authority: 49 U.S.C. 30118, 30120: delegations of authority at 49 CFR 1.95 and 501.8)

Otto G. Matheke III,
Director, Office of Vehicle Safety Compliance.

[FR Doc. 2026-03616 Filed 2-23-26; 8:45 am]

BILLING CODE 4910-59-P